FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency makes the final determinations listed below of modified base flood elevations for each community listed. These modified elevations have been published in newspapers of local circulation and ninety (90) days have elapsed since that publication. The Administrator has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR part 10, Environmental Consideration. No environmental impact assessment has been prepared.

Regulatory Flexibility Act

The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Connecticut: Fairfield (FEMA Docket No. D-7521) | Town of Greenwich | February 11, 2002, February 18, 2002, Greenwich Times | Mr. Richard Bergstresser First Selectman for the Town of Greenwich, 101 Field Point Road, Greenwich, Connecticut 06830 | February 4, 2002 | 090008 C
Illinois: Kane (FEMA Docket No. D-7523) | City of Geneva | March 6, 2002, March 13, 2002, Kane County Chronicle | The Honorable Kevin Burns, Mayor of the City of Geneva, 22 South First Street, Geneva, Illinois 60134 | June 12, 2002 | 170325 B
Kentucky: Jefferson (FEMA Docket No. D-7521) | Unincorporated Areas | January 3, 2002, January 10, 2002, Courier-Journal | The Honorable Rebecca Jackson, Jefferson County Judge Executive, Jefferson County Courthouse, 527 West Jefferson Street, Suite 400, Louisville, Kentucky 40202 | April 11, 2001 | 210120 D
Maryland: Howard (FEMA Docket No. D-7523) | Unincorporated Areas | December 13, 2001, December 20, 2001, The Howard County Times | Mr. James N. Robey, Howard County Executive, 3430 Courthouse Drive, Ellicott City, Maryland 21043 | November 28, 2001 | 240044 B
Maryland: Montgomery (FEMA Docket No. D-7523) | City of Rockville | March 6, 2002, March 13, 2002, Rockville Gazette | The Honorable Larry Giammo, Mayor of the City of Rockville, Rockville City Hall, 111 Maryland Avenue, Rockville, Maryland 20850 | February 22, 2002 | 240051 B
Pennsylvania: Lehigh (FEMA Docket No. D-7523) | Township of Salisbury | March 11, 2002, March 18, 2002, Morning Call | Mr. Gabriel Khalife, Manager of the Township of Salisbury, 2900 South Pike Avenue, Allentown, Pennsylvania 18103 | June 17, 2002 | 420591 D
Puerto Rico: (FEMA Docket No. D-7523) | Commonwealth | November 16, 2001, November 23, 2001, The San Juan Star | The Honorable Sila Maria Calderon, Governor of the Commonwealth of Puerto Rico, Office of the Governor, P.O. Box 9020082, San Juan, Puerto Rico 00901 | November 7, 2001 | 720000 E
Virginia: Fauquier (FEMA Docket No. D-7523) | Town of Warrenton | March 21, 2002, March 28, 2002, Fauquier Citizen | Mr. John Anzivino, Warrenton Town Manager, Municipal Building, 18 Court Street, Warrenton, Virginia 20186 | March 5, 2002 | 510057 B

(Catalog of Federal Domestic Assistance No. 83.100, “Flood Insurance.”)

Dated: August 30, 2002.
Anthony S. Lowe,
Administrator, Federal Insurance and Mitigation Administration.

[FR Doc. 02-22824 Filed 9-6-02; 8:45 am]

BILLING CODE 6718-04-P